DEPARTMENT OF STATE

[Public Notice 3876]

New Conservation Measures for Antarctic Fishing Under the Auspices of CCAMLR

AGENCY: State Department.

ACTION: Notice.

SUMMARY: At its Twentieth Meeting in Hobart, Tasmania, October 22 to November 2, 2001, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twentieth meeting of CCAMLR. For all of the conservation measures in force, see the CCAMLR web site at www.ccamlr.org. This notice, therefore, together with the U.S. regulations referenced under the Supplementary Information provides a comprehensive register of all current U.S. obligations under CCAMLR.

DATES: Persons wishing to comment on the measures or desiring more information should submit written comments within 30 days of this announcement.

FOR FURTHER INFORMATION CONTACT: Roberta L. Chew, Office of Oceans Affairs (OES/OA), Room 5805, Department of State, Washington, DC 20520; tel: 202-647-3947; fax: 202-647-9099; e-mail: chewrl@state.gov.

SUPPLEMENTARY INFORMATION: Individuals interested in CCAMLR should also see 15 CFR Chapter III—International Fishing and Related Activities, Part 300—International Fishing Regulations, Subpart A—General; Subpart B—High Seas Fisheries; and Subpart G— Antarctic Marine Living Resources, for other regulatory measures related to conservation and management in the CCAMLR Convention area. Subpart B notes the requirements for high seas fishing vessel licensing. Subparts A and G describe the process for regulating U.S. fishing in the CCAMLR Convention area and contain the text of CCAMLR Conservation Measures that are not expected to change from year to year. The regulations in Subparts A and G include sections on; Purpose and scope; Definitions; Relationship to other treaties, conventions, laws, and regulations; Procedure for according protection to CCAMLR Ecosystem Monitoring Program Sites; Scientific Research; Initiating a new fishery; Exploratory fisheries; Reporting and recordkeeping requirements; Vessel and gear identification; Gear disposal; Mesh Size; Harvesting permits; Import permits; Appointment of a designated representative; Prohibitions; Facilitation of enforcement and inspection; and Penalties.

Conservation Measures Remaining in Force: The Commission agreed that the Conservation Measures 2/III, 3/IV, 4/V, 5/V, 6/V, 7/V, 18/XIX, 19/IX, 29/XIX, 31/X, 32/XIX, 40/X, 51/XIX, 61/XII, 62/XIX, 63/XV, 64/XIX, 65/XII, 72/XVII, 73/XVII, 82/XIX, 95/XIV, 106/XIX, 121/XIX, 122/XIX, 129/XVI, 146/XVII, 147/XIX, 160/XVII, 171/XVIII, 173/XVIII, and 180/XVIII, and Resolutions 7/IX, 10/XII, 13/XIX, 14/XIX, 15/XIX, and 16/XIX remain in force. For the text of CCAMLR Conservation Measures remaining in force, see 61 FR 66723, dated December 18, 1996; 63 FR 5587, dated February 3, 1998; 63 FR 300 dated December 22, 1998; 64 FR 71165, dated December 20, 1999; and 66 FR 7527, dated January 23, 2001.

New and Revised Conservation Measures: At its Twentieth Meeting in Hobart, Tasmania, October 22 to November 2, 2001, the Commission for the Conservation of Antarctic Marine Living Resources (CCAMLR) revised the following Conservation Measures 45/XIV, 118/XVII, 119/XVII, 148/XVII and 170/XIX. In addition, 23 new measures and one new resolution were adopted. The conservation measures and resolution adopted at the Twentieth Meeting follow:

Conservation Measure 45/XX

Precautionary Catch Limitation on Euphausia superba in Statistical Division 58.4.2

Catch Limit 1.

The total catch of Euphausia superba in Statistical Division 58.4.2 shall be limited to 450,000 tonnes in any fishing season. This limit shall be kept under review by the Commission, taking into account the advice of the Scientific Committee.

Season 2.

A fishing season begins on 1 December and finishes on 30 November of the following year.

Data 3.

For the purposes of implementing this conservation measure, the catches shall be reported to the Commission on a monthly basis.

Conservation Measure 118/XX

Scheme To Promote Compliance by Non-Contracting Party Vessels With CCAMLR Conservation Measures

The Commission,

Requesting non-Contracting Parties to cooperate fully with the Commission with a view to ensuring that the effectiveness of CCAMLR conservation measures is not undermined, hereby adopts the following conservation measure in accordance with Article IX.2(i) of the Convention:

1. A non-Contracting Party vessel which has been sighted engaging in fishing activities in the Convention Area or has been denied landing or transhipment in accordance with Conservation Measure 147/XIX is presumed to be undermining the effectiveness of CCAMLR conservation measures. In the case of any transhipment activities involving a sighted non-Contracting Party vessel inside or outside the Convention Area, the presumption of undermining the effectiveness of CCAMLR conservation measures applies to any other non-Contracting Party vessel which has engaged in such activities with that vessel.

2. Information regarding such sightings or denial of landings or transhipments shall be transmitted immediately to the Commission in accordance with Article XXII of the Convention. The Secretariat shall transmit this information to all Contracting Parties, within one business day of receiving this information, and to the Flag State of the sighted vessel as soon as possible.

3. The Contracting Party which sights the non-Contracting Party vessel or denies it landing or transhipment under paragraph 1 shall attempt to inform the vessel it is presumed to be undermining the objective of the Convention and that this information will be distributed to all Contracting Parties and to the Secretariat, and to the Flag State of the vessel.

4. When the non-Contracting Party vessel referred to in paragraph 1 enters a port of any Contracting Party, it shall be inspected by authorised Contracting Party officials in accordance with Conservation Measure 147/XIX and shall not be allowed to land or tranship any fish until this inspection has taken place. Such inspections shall include the vessel's documents, logbooks, fishing gear, catch on board and any other matter, which may include information from a VMS, relating to the vessel's activities in the Convention Area.

5. Landing and transhipments of all fish from a non-Contracting Party vessel which has been inspected pursuant to paragraph 4, shall be prohibited in all Contracting Party ports if such inspection reveals that the vessel has on board species subject to CCAMLR conservation measures, unless the vessel establishes that the fish were caught outside the Convention Area, or in compliance with all relevant CCAMLR conservation measures and requirements under the Convention.

6. Contracting Parties shall ensure that their vessels do not receive transhipments of fish from a non-Contracting Party vessel which has been sighted and reported as having engaged in fishing activities in the Convention Area and therefore presumed as having undermined the effectiveness of CCAMLR conservation measures.

7. Information on the results of all inspections of non-Contracting Party vessels conducted in the ports of Contracting Parties, and on any subsequent action, shall be transmitted immediately to the Commission. The Secretariat shall transmit this information immediately to all Contracting Parties, and to the relevant Flag State(s).

8. At each annual meeting the Commission will identify those non-Contracting Parties whose vessels have been sighted engaging in fishing activities in the Convention Area or have been denied landing or transhipment under paragraph 1, or who are otherwise engaged in activities that threaten to undermine the effectiveness of CCAMLR conservation measures.

9. The Secretariat, in consultation with the Chair of the Commission shall request those non-Contracting Parties identified pursuant to paragraph 8, to immediately take steps to desist from activities undermining the effectiveness of CCAMLR conservation measures, and advise the Secretariat of the actions taken in this regard.

10. Contracting Parties shall jointly and/or individually request non-Contracting Parties identified pursuant to paragraph 8, to cooperate fully with the Commission in order to avoid undermining the effectiveness of conservation measures adopted by the Commission.

11. The Commission shall review, at subsequent annual meetings as appropriate, actions taken by those non-Contracting Parties identified pursuant to paragraph 8 to which requests have been made pursuant to paragraphs 9 and 10.

12. The Commission shall annually review information accrued under paragraphs 8 to 11 to decide the appropriate measures to be taken so as to address these issues with those identified non-Contracting Party States. Such measures could include, but are not limited to, those measures set out in paragraph 68¹ of the FAO International Plan of Action to Prevent, Deter and Eliminate Illegal, Unreported and Unregulated Fishing.

¹ ‘***multilateral trade-related measures envisaged in regional fisheries management organizations may be used to support cooperative efforts to ensure that trade in specific fish and fish products does not in any way encourage IUU fishing or otherwise undermine the effectiveness of conservation and management measures which are consistent with the 1982 UN Convention.’

Conservation Measure 119/XX¹, ²

¹ Except for waters adjacent to the Kerguelen and Crozet Islands.

² Except for waters adjcent to the Prince Edward Islands.

³ Includes permit.

Licensing and Inspection Obligations of Contracting Parties With Regard to Their Flag Vessels Operating in the Convention Area

1. Each Contracting Party shall prohibit fishing by its flag vessels in the Convention Area except pursuant to a licence³ that the Contracting Party has issued setting forth the specific areas, species and time periods for which such fishing is authorised and all other specific conditions to which the fishing is subject to give effect to CCAMLR conservation measures and requirements under the Convention.

³ Includes permit.

2. A Contracting Party may only issue such a licence to fish in the Convention Area to vessels flying its flag, if it is satisfied of its ability to exercise its responsibilities under the Convention and its conservation measures, by requiring from each vessel, inter alia, the following:

(i) Timely notification by the vessel to its Flag State of exit from and entry into any port;

(ii) Notification by the vessel to its Flag State of entry into the Convention Area and movement between areas, subareas/divisions;

(iii) Reporting by the vessel of catch data in accordance with CCAMLR requirements; and

(iv) Operation of a VMS system on board the vessel in accordance with Conservation Measure 148/XX.

3. Each Contracting Party shall provide to the Secretariat within seven days of the issuance of each licence the following information about licences issued:

• Name of the vessel;

• Time periods authorised for fishing (start and end dates);

• Area(s) of fishing;

• Species targeted; and

• Gear used.

4. The licence or an authorised copy of the licence must be carried by the fishing vessel and must be available for inspection at any time by a designated CCAMLR inspector in the Convention Area.

5. Each Contracting Party shall verify, through inspections of all of its fishing vessels at the Party's departure and arrival ports, and where appropriate, in its Exclusive Economic Zone, their compliance with the conditions of the licence as described in paragraph 1 and with the CCAMLR conservation measures. In the event that there is evidence that the vessel has not fished in accordance with the conditions of its licence, the Contracting Party shall investigate the infringement and, if necessary, apply appropriate sanctions in accordance with its national legislation.

6. Each Contracting Party shall include in its annual report pursuant to paragraph 12 of the CCAMLR System of Inspection, steps it has taken to implement and apply this conservation measure; and may include additional measures it may have taken in relation to its flag vessels to promote the effectiveness of CCAMLR conservation measures.

Conservation Measure 148/XX

Automated Satellite-Linked Vessel Monitoring Systems (VMS)

The Commission hereby adopts the following conservation measure in accordance with Article IX of the Convention:

1. Each Contracting Party shall, no later than March 1, 1999, establish an automated Vessel Monitoring System (VMS) to monitor the position of its fishing vessels, which are licensed ¹ in accordance with Conservation Measure 119/XX, to harvest marine living resources in the Convention Area, and for which catch limits, fishing seasons or area restrictions have been set by conservation measures adopted by the Commission.

¹ Includes permit.

2. Any Contracting Party unable to establish VMS in accordance with paragraph 1 shall inform the CCAMLR Secretariat within 90 days following the notification of this conservation measure, and communicate its intended timetable for implementation of VMS. However, the Contracting Party shall establish VMS at the earliest possible date, and in any event, no later than December 31, 2000.

3. The implementation of VMS on vessels while participating only in a krill fishery is not currently required.

4. Each Contracting Party, within two working days of receiving the required VMS information, shall provide to the Secretariat dates and the statistical area, subarea or division for each of the following movements of its flag fishing vessels:

(i) Entering and leaving the Convention Area; and

(ii) Crossing boundaries between CCAMLR statistical areas, subareas and divisions.

5. For the purpose of this measure, VMS means a system where, inter alia:

(i) Through the installation of satellite-tracking devices on board its fishing vessels, the Flag State receives automatic transmission of certain information. This information includes the fishing vessel identification, location, date and time, and is collected by the Flag State at least every four hours to enable it to monitor effectively its flag vessels;

(ii) Performance standards provide, as a minimum, that the VMS:

(a) Is tamper proof;

(b) Is fully automatic and operational at all times regardless of environmental conditions;

(c) Provides real time data;

(d) Provides the geographical position of the vessel, with a position error of less than 500 m with a confidence interval of 99%, the format being determined by the Flag State; and

(e) In addition to regular messages, provides special messages when the vessel enters or leaves the Convention Area and when it moves between one CCAMLR area, subarea or division within the Convention Area.

6. In the event of technical failure or other non-function of the VMS, the master or the owner of the fishing vessel, as a minimum:

(i) Shall communicate at least once every 24 hours, starting from the time that this event was detected, the data referred in paragraph 4(i) by telex, by fax, by telephone message or by radio to the Flag State; and

(ii) Shall take immediate steps to have the device repaired or replaced as soon as possible, and, in any event, within two months. If during that period the vessel returns to port it shall not be allowed to commence a further fishing trip without having the defective device repaired or replaced.

7. In the event that the VMS ceases to operate, the Contracting Party as soon as possible shall advise the Executive Secretary of the name of the vessel, the date, time and the location of the vessel when the VMS failed. The Party shall also inform the Executive Secretary when the VMS becomes operational again. The Executive Secretary shall make such information available to Contracting Parties upon request.

8. Contracting Parties shall report to the Secretariat before the start of the annual meeting of the Commission in 1999, on the VMS which has been introduced in accordance with paragraphs 1 and 2, including its technical details, and each year thereafter, on:

(i) Any change in the VMS; and

(ii) In accordance with paragraph XI of the CCAMLR System of Inspection, all cases where they have determined, with the assistance of the VMS that vessels of their flag had fished in the Convention Area in possible contravention of CCAMLR conservation measures.

Conservation Measure 170/XX

Catch Documentation Scheme for Dissostichus spp.

The Commission,

Concerned that illegal, unregulated and unreported (IUU) fishing for Dissostichus spp. in the Convention Area threatens serious depletion of populations of Dissostichus spp.,

Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the Catch Documentation Scheme for Dissostichus spp., hereby adopts the following conservation measure in accordance with Article IX of the Convention:

1. Each Contracting Party shall take steps to identify the origin of Dissostichus spp. imported into or exported from its territories and to determine whether Dissostichus spp. harvested in the Convention Area that is imported into or exported from its territories was caught in a manner consistent with CCAMLR conservation measures.

2. Each Contracting Party shall require that each master or authorised representative of its flag vessels authorised to engage in harvesting of Dissostichus eleginoides and/or Dissostichus mawsoni complete a Dissostichus catch document for the catch landed or transhipped on each occasion that it lands or tranships Dissostichus spp.

3. Each Contracting Party shall require that each landing of Dissostichus spp. at its ports and each transhipment of Dissostichus spp. to its vessels be accompanied by a completed Dissostichus catch document.

4. Each Contracting Party shall, in accordance with their laws and regulations, require that their flag vessels which intend to harvest Dissostichus spp., including on the high seas outside the Convention Area, are provided with specific authorisation to do so. Each Contracting Party shall provide Dissostichus catch document forms to each of its flag vessels authorised to harvest Dissostichus spp. and only to those vessels.

5. A non-Contracting Party seeking to cooperate with CCAMLR by participating in this scheme may issue Dissostichus catch document forms, in accordance with the procedures specified in paragraphs 6 and 7, to any of its flag vessels that intend to harvest Dissostichus spp.

6. The Dissostichus catch document shall include the following information:

(i) The name, address, telephone and fax numbers of the issuing authority;

(ii) The name, home port, national registry number, and call sign of the vessel and, if issued, its IMO/Lloyd's registration number;

(iii) The reference number of the licence or permit, whichever is applicable, that is issued to the vessel;

(iv) The weight of each Dissostichus species landed or transhipped by product type, and

(a) By CCAMLR statistical subarea or division if caught in the Convention

Area; and/or

(b) By FAO statistical area, subarea or division if caught outside the Convention Area;

(v) The dates within which the catch was taken;

(vi) The date and the port at which the catch was landed or the date and the vessel, its flag and national registry number, to which the catch was transhipped; and

(vii) The name, address, telephone and fax numbers of the recipient(s) of the catch and the amount of each species and product type received.

7. Procedures for completing Dissostichus catch documents in respect of vessels are set forth in paragraphs A1 to A10 of Annex 170/A to this measure. The standard catch document is available at the CCAMLR website, www.ccamlr.org, or contact the Office of Sustainable Fisheries at the National Marine Fisheries Service (phone Dean Swanson: 301-713-2276).

8. Each Contracting Party shall require that each shipment of Dissostichus spp. imported into or exported from its territory be accompanied by the export-validated Dissostichus catch document(s) and, where appropriate, validated re-export document(s) that account for all the Dissostichus spp. contained in the shipment.

9. An export-validated Dissostichus catch document issued in respect of a vessel is one that:

(i) Includes all relevant information and signatures provided in accordance with paragraphs A1 to A11 of Annex 170/A to this measure; and

(ii) Includes a signed and stamped certification by a responsible official of the exporting State of the accuracy of the information contained in the document.

10. Each Contracting Party shall ensure that its customs authorities or other appropriate officials request and examine the documentation of each shipment of Dissostichus spp. imported into or exported from its territory to verify that it includes the export-validated Dissostichus catch document(s) and, where appropriate, validated re-export document(s) that account for all the Dissostichus spp. contained in the shipment. These officials may also examine the content of any shipment to verify the information contained in the catch document or documents.

11. If, as a result of an examination referred to in paragraph 10 above, a question arises regarding the information contained in a Dissostichus catch document or a re-export document the exporting State whose national authority validated the document(s) and, as appropriate, the Flag State whose vessel completed the document are called on to cooperate with the importing State with a view to resolving such question.

12. Each Contracting Party shall promptly provide by the most rapid electronic means copies to the CCAMLR Secretariat of all export-validated Dissostichus catch documents and, where relevant, validated re-export documents that it issued from and received into its territory and shall report annually to the Secretariat data, drawn from such documents, on the origin and amount of Dissostichus spp. exported from and imported into its territory.

13. Each Contracting Party, and any non-Contracting Party that issues Dissostichus catch documents in respect of its flag vessels in accordance with paragraph 5, shall inform the CCAMLR Secretariat of the national authority or authorities (including names, addresses, phone and fax numbers and email addresses) responsible for issuing and validating Dissostichus catch documents.

14. Notwithstanding the above, any Contracting Party, or any non-Contracting Party participating in the Catch Documentation Scheme, may require additional verification of catch documents by Flag States by using, inter alia, VMS, in respect of catches ¹ taken on the high seas outside the Convention Area, when landed at, imported into or exported from its territory.

¹ Excluding by-catches of Dissostichus spp. by trawlers fishing on the high seas outside the Convention Area. A by-catch shall be defined as no more than 5% of total catch of all species and no more than 50 tonnes for an entire fishing trip by a vessel.

15. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

16. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex B.

Annex 170/A

A1. Each Flag State shall ensure that each Dissostichus catch document form that it issues includes a specific identification number consisting of:

(i) A four-digit number, consisting of the two-digit International Standards Organization (ISO) country code plus the last two digits of the year for which the form is issued; and

(ii) A three-digit sequence number (beginning with 001) to denote the order in which catch document forms are issued.

It shall also enter on each Dissostichus catch document form the number as appropriate of the licence or permit issued to the vessel.

A2. The master of a vessel which has been issued a Dissostichus catch document form or forms shall adhere to the following procedures prior to each landing or transhipment of Dissostichus spp.:

(i) The master shall ensure that the information specified in paragraph 6 of this conservation measure is accurately recorded on the Dissostichus catch document form;

(ii) If a landing or transhipment includes catch of both Dissostichus spp., the master shall record on the Dissostichus catch document form the total amount of the catch landed or transhipped by weight of each species;

(iii) If a landing or transhipment includes catch of Dissostichus spp. taken from different statistical subareas and/or divisions, the master shall record on the Dissostichus catch document form the amount of the catch by weight of each species taken from each statistical subarea and/or division; and

(iv) The master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraphs 5 and 6 of Conservation Measure 148/XX), the area fished and that the catch to be landed or transhipped as reported by its vessel is accurately recorded and taken in a manner consistent with its authorisation to fish, it shall convey a unique Flag State confirmation number to the vessel's master by the most rapid electronic means available.

¹ Excluding by-catches of Dissostichus spp. by trawlers fishing on the high seas outside the Convention Area. A by-catch shall be defined as no more than 5% of total catch of all species and no more than 50 tonnes for an entire fishing trip by a vessel.

A4. The master shall enter the Flag State confirmation number on the Dissostichus catch document form.

A5. The master of a vessel that has been issued a Dissostichus catch document form or forms shall adhere to the following procedures immediately after each landing or transhipment of Dissostichus spp.:

(i) In the case of a transhipment, the master shall confirm the transhipment by obtaining the signature on the Dissostichus catch document of the master of the vessel to which the catch is transferred;

(ii) In the case of a landing, the master or authorised representative shall confirm the landing by obtaining a signed and stamped certification on the Dissostichus catch document by a responsible official at the port of landing or free trade zone;

(iii) In the case of a landing, the master or authorised representative shall also obtain the signature on the Dissostichus catch document of the individual that receives the catch at the port of landing or free trade zone; and

(iv) In the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9. The master of a vessel to which catch has been transhipped (receiving vessel) shall adhere to the following procedures immediately after landing of such catch in order to complete each Dissostichus catch document received from transhipping vessels:

(i) The master of the receiving vessel shall confirm the landing by obtaining a signed and stamped certification on the Dissostichus catch document by a responsible official at the port of landing or free trade zone;

(ii) The master of the receiving vessel shall also obtain the signature on the Dissostichus catch document of the individual that receives the catch at the port of landing or free trade zone; and

(iii) In the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) The exporter shall enter on each Dissostichus catch document the amount of each Dissostichus spp. reported on the document that is contained in the shipment;

(ii) The exporter shall enter on each Dissostichus catch document the name and address of the importer of the shipment and the point of import;

(iii) The exporter shall enter on each Dissostichus catch document the exporter's name and address, and shall sign the document; and

(iv) The exporter shall obtain a signed and stamped validation of the Dissostichus catch document by a responsible official of the exporting State.

A12. In the case of re-export, the re-exporter shall adhere to the following procedures to obtain the necessary re-export validation of the Dissostichus catch document(s) that account for all the Dissostichus spp. contained in the shipment:

(i) The re-exporter shall supply details of the net weight of product of all species to be re-exported, together with the Dissostichus catch document number to which each species and product relates;

(ii) The re-exporter shall supply the name and address of the importer of the shipment, the point of import and the name and address of the exporter;

(iii) The re-exporter shall obtain a signed and stamped validation of the above details by the responsible official of the exporting State on the accuracy of information contained in the document(s); and

(iv) The responsible official of the exporting state shall immediately transmit by the most rapid electronic means a copy of the re-export document to the Secretariat to be made available next working day to all Contracting Parties.

The standard form for re-export is available at the CCAMLR website, www.ccamlr.org, or contact the Office of Sustainable Fisheries at the National Marine Fisheries Service (phone Dean Swanson: 301-713-2276).

Annex 170/B

The Use of the CDS Fund

B1. The purpose of the CDS Fund (‘the Fund’) is to enhance the capacity of the Commission in improving the effectiveness of the CDS and by this, and other means, to prevent, deter and eliminate IUU fishing in the Convention Area.

B2. The Fund will be operated according to the following provisions:

(i) The Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat, although the participation of Members in these projects is not precluded. While individual Member projects may be considered, this shall not replace the normal responsibilities of Members of the Commission. The Fund shall not be used for routine Secretariat activities.

(iii) Proposals for special projects may be made by Members, by the Commission or the Scientific Committee and their subsidiary bodies, or by the Secretariat. Proposals shall be made to the Commission in writing and be accompanied by an explanation of the proposal and an itemised statement of estimated expenditure.

(iv) The Commission will, at each annual meeting, designate six Members to serve on a Review Panel to review proposals made intersessionally and to make recommendations to the Commission on whether to fund special projects or special needs. The Review Panel will operate by email intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Conservation Measure 216/XX

Experimental Line-Weighting Trials

In respect of fisheries in Statistical Subareas 48.6 south of 60°S, 88.1 and 88.2, paragraph 3 of Conservation Measure 29/XIX shall not apply only where a vessel can demonstrate prior to licensing for this fishery its ability to fully comply with either of the following experimental protocols.

Protocol A:

A1. The vessel shall, under observation by a scientific observer:

(i) Set a minimum of five longlines with a minimum of four Time Depth Recorders (TDR) on each line;

(ii) Randomise TDR placement on the longline within and between sets;

(iii) Calculate an individual sink rate for each TDR when returned to the vessel, where:

(a) The sink rate shall be measured as an average of the time taken to sink from the surface (0 m) to 15 m; and

(b) This sink rate shall be at a minimum rate of 0.3 m/s;

(iv) If the minimum sink rate is not achieved at all 20 sample points, repeat the test until such time as a total of 20 tests with a minimum sink rate of 0.3 m/s are recorded; and

(v) All equipment and fishing gear used in the tests is to be the same as that to be used in the Convention Area.

A2. During fishing, for a vessel to maintain the exemption to night-time setting requirements, continuous line sink monitoring shall be undertaken by the CCAMLR scientific observer. The vessel shall cooperate with the CCAMLR observer who shall:

(i) Aim to place a TDR on every longline set during the observer's shift;

(ii) Every seven days place all available TDRs on a single longline to determine any sink rate variation along the line;

(iii) Randomise TDR placement on the longline within and between sets;

(iv) Calculate an individual rate for each TDR when returned to the vessel; and

(v) Measure the sink rate as an average of the time taken to sink from the surface (0 m) to 15 m.

A3. The vessel shall:

(i) Ensure the average sink rate is at a minimum of 0.3 m/s;

(ii) Report daily to the fishery manager; and

(iii) Ensure that data collected from line sink trials is recorded in the approved format and submitted to the fishery manager at the conclusion of the season.

Protocol B:

B1. The vessel shall, under observation by a scientific observer:

(i) Set a minimum of five longlines of the maximum length to be used in the Convention Area with a minimum of four bottle tests (see paragraphs B5 to B9) on the middle one-third of the longline;

(ii) Randomise bottle test placement on the longline within and between sets, noting that all tests should be applied halfway between weights;

(iii) Calculate an individual sink rate for each bottle test, where the sink rate shall be measured as the time taken for the longline to sink from the surface (0 m) to 15 m;

(iv) This sink rate shall be at a minimum rate of 0.3 m/s;

(v) If the minimum sink rate is not achieved at all 20 sample points (four tests on five lines), continue testing until such time as a total of 20 tests with a minimum sink rate of 0.3 m/s are recorded; and

(vi) All equipment and fishing gear used in the tests is to be to the same specifications as that to be used in the Convention Area.

B2. During fishing, for a vessel to maintain the exemption to paragraph 3 of Conservation Measure 29/XIX, regular line sink rate monitoring shall be undertaken by the CCAMLR scientific observer. The vessel shall cooperate with the CCAMLR observer who shall:

(i) Aim to conduct a bottle test on every longline set during the observer's shift, noting that the test should be undertaken on the middle one-third of the line;

(ii) Every seven days place at least four bottle tests on a single longline to determine any sink rate variation along the line;

(iii) Randomise bottle test placement on the longline within and between sets, noting that all tests should be applied halfway between weights;

(iv) Calculate an individual sink rate for each bottle test; and

(v) Measure the line sink rate as the time taken for the line to sink from the surface (0 m) to 15 m.

B3. The vessel shall whilst operating under this exemption:

(i) Ensure that all longlines are weighted to achieve a minimum line sink rate of 0.3 m/s at all times;

(ii) Report daily to its national agency on the achievement of this target; and

(iii) Ensure that data collected from line sink rate monitoring are recorded in the approved format and submitted to the relevant national agency at the conclusion of the season.

B4. A bottle test is to be conducted as described below.

Bottle Set Up

B5. 15 m of 2 mm multifilament nylon snood twine, or equivalent, is securely attached to the neck of a 750 ml plastic bottle ¹ (buoyancy about 0.7 kg) with a longline clip attached to the other end. The length measurement is taken from the attachment point(terminal end of the clip) to the neck of the bottle, and should be checked by the observer every few days.

B6. Reflective tape should be wrapped around the bottle to allow it to be observed at night. A piece of waterproof paper with a unique identifying number large enough to be read from a few metres away should be placed inside the bottle.

Test

B7. The bottle is emptied of water, the stopper is left open and the twine is wrapped around the body of the bottle for setting. The bottle with the encircled twine is attached to the longline ², midway between weights (the attachment point).

¹ A plastic water bottle that has a hard plastic screw-on ‘stopper’ is needed. The stopper of the bottle is left open so that the bottle will fill with water after being pulled under water. This allows the plastic bottle to be re-used rather than being crushed by water pressure.

² On autolines attach to the backbone; on the Spanish longline system attach to the hookline.

B8. The observer records the time at which the attachment point enters the water as t1 in seconds. The time at which the bottle is observed to be pulled completely under is recorded as t2 in seconds³. The result of the test is calculated as follows:

³ Binoculars will make this process easier to view, especially in foul weather.

Line sink rate = 15 / (t2—t1)

B9. The result should be equal to or greater than 0.3 m/s. These data are to be recorded in the space provided in the electronic observer logbook.

Conservation Measure 217/XX

Fishing Seasons

The Commission hereby adopts the following conservation measure in accordance with Article IX of the Convention:

The fishing season for all Convention Area species is 1 December to 30 November of the following year, unless otherwise set in specific conservation measures.

Conservation Measure 218/XX ¹

¹ Except for waters adjacent to the Kerguelen Islands.

Prohibition of Directed Fishing for Dissostichus spp. Except in Accordance With Specific Conservation Measures in the 2001/02 Season

The Commission hereby adopts the following conservation measure in accordance with Article IX of the Convention:

Directed fishing for Dissostichus spp. in Statistical Subareas 48.5, 88.2 north of 65°S and 88.3, and Divisions 58.4.1 and 58.5.1 is prohibited from 1 December 2001 to 30 November 2002.

Conservation Measure 219/XX

Limits on the Fishery for Champsocephalus gunnari in Statistical Subarea 48.3 in the 2001/02 Season

The Commission hereby adopts the following conservation measure in accordance with Conservation Measure 7/V:

Access

1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period March 1 to May 31, 2002 (spawning period).

Catch Limit

3. The total catch of Champsocephalus gunnari in Statistical Subarea 48.3 in the 2001/02 season shall be limited to 5 557 tonnes. The total catch of Champsocephalus gunnari taken in the period March 1 to May 31, 2002. shall be limited to 1 389 tonnes.

4. Where any haul contains more than 100 kg of Champsocephalus gunnari, and more than 10% of the Champsocephalus gunnari by number are smaller than 240 mm total length, the fishing vessel shall move to another fishing location at least 5 n miles distant.¹ The fishing vessel shall not return to any point within 5 n miles of the location where the catch of small Champsocephalus gunnari exceeded 10%, for a period of at least five days². The location where the catch of small Champsocephalus gunnari exceeded 10% is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The specified period is adopted in accordance with the reporting period specified in Conservation Measure 51/XIX, pending the adoption of a more appropriate period by the Commission.

Season

5. For the purpose of the trawl fishery for Champsocephalus gunnari in Statistical Subarea 48.3, the 2001/02 season is defined as the period from December 1, 2001 to November 30, 2002, or until the catch limit is reached, whichever is sooner.

By-Catch

6. The by-catch in this fishery shall be regulated as set out in Conservation Measure 95/XIV. If, in the course of the directed fishery for Champsocephalus gunnari, the by-catch in any one haul of any of the species named in Conservation Measure 95/XIV

• Is greater than 100 kg and exceeds 5% of the total catch of all fish by weight, or

• Is equal to or greater than 2 tonnes, then the fishing vessel shall move to another location at least 5 n miles distant.¹ The fishing vessel shall not return to any point within 5 n miles of the location where the by-catch of species named in Conservation Measure 95/XIV exceeded 5% for a period of at least five days.² The location where the by-catch exceeded 5% is defined as the path followed by the fishing vessel from the point at which the fishing gear was first deployed from the fishing vessel to the point at which the fishing gear was retrieved by the fishing vessel.

Mitigation

7. The operation of this fishery shall be carried out in accordance with Conservation Measure 173/XVIII so as to minimise the incidental mortality of seabirds in the course of the fishery.

8. When any vessel has caught a total of 20 seabirds, it shall cease fishing and shall be excluded from further participation in the fishery in the 2001/02 season.

Observers

9. Each vessel participating in this fishery shall have at least one scientific observer appointed in accordance with the CCAMLR Scheme of International Scientific Observation, and where possible one additional scientific observer, on board throughout all fishing activities within the fishing period.

Data: Catch/Effort

10. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

11. For the purpose of Conservation Measures 51/XIX and 122/XIX, the target species is Champsocephalus gunnari and by-catch species are defined as any species other than Champsocephalus gunnari.

Data: Biological

12. Fine-scale biological data, as required under Conservation Measure 121/XIX, shall be collected and recorded. Such data shall be reported in accordance with the Scheme of International Scientific Observation.

Research

13. Each vessel operating in this fishery during the period March 1 to May 31, 2002 shall conduct twenty (20) research trawls in the manner described in Annex 219/A.

Annex 219/A

Research Trawls During Spawning Season

1. All fishing vessels taking part in the fishery for Champsocephalus gunnari in Statistical Subarea 48.3 between March 1 and May 31, 2002 shall be required to conduct a minimum of 20 research hauls, to be completed during that period. Twelve research hauls shall be carried out in the Shag Rocks-Black Rocks area: Four each in the NW and SE sectors, and two each in the NE and SW sectors. A further eight research hauls shall be conducted on the northwestern shelf of South Georgia over water less than 300 m deep.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible weight. More fish should be examined if the catch is large and time permits.

Conservation Measure 220/XX

Limits on the Fishery for Champsocephalus gunnari in Statistical Division 58.5.2 in the 2001/02 Season

Access

1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) Starting at the point where the meridian of longitude 72°15′E intersects the Australia-France Maritime Delimitation Agreement Boundary then south along the meridian to its intersection with the parallel of latitude 53°25′S;

(ii) Then east along that parallel to its intersection with the meridian of longitude 74°E;

(iii) Then northeasterly along the geodesic to the intersection of the parallel of latitude 52°40′S and the meridian of longitude 76°E;

(iv) Then north along the meridian to its intersection with the parallel of latitude 52°S;

(v) Then northwesterly along the geodesic to the intersection of the parallel of latitude 51°S with the meridian of longitude 74°30′E; and

(vi) Then southwesterly along the geodesic to the point of commencement.

3. Areas in Statistical Division 58.5.2 outside that defined above shall be closed to directed fishing for Champsocephalus gunnari.

Catch Limit

4. The total catch of Champsocephalus gunnari in Statistical Division 58.5.2 in the 2001/02 season shall be limited to 885 tonnes.

5. Where any haul contains more than 100 kg of Champsocephalus gunnari, and more than 10% of the Champsocephalus gunnari by number are smaller than 240 mm total length, the fishing vessel shall move to another fishing location at least 5 n miles distant. ¹ The fishing vessel shall not return to any point within 5 n miles of the location where the catch of small Champsocephalus gunnari exceeded 10% for a period of at least five days. ² The location where the catch of small Champsocephalus gunnari exceeded 10% is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The specified period is adopted in accordance with the reporting period specified in Conservation Measure 51/XIX, pending the adoption of a more appropriate period by the Commission.

Season

6. For the purpose of the trawl fishery for Champsocephalus gunnari in Statistical Division 58.5.2, the 2001/02 season is defined as the period from December 1, 2001 to November 30, 2002, or until the catch limit is reached, whichever is sooner.

By-catch

7. Fishing shall cease if the by-catch of any species reaches its by-catch limit as set out in Conservation Measure 224/XX.

Mitigation

8. The operation of this fishery shall be carried out in accordance with Conservation Measure 173/XVIII so as to minimise the incidental mortality of seabirds in the course of fishing.

Observers

9. Each vessel participating in this fishery shall have at least one scientific observer, and may include one appointed in accordance with the CCAMLR Scheme of International Scientific Observation, on board throughout all fishing activities within the fishing period.

Data: Catch/Effort

10. For the purpose of implementing this conservation measure in the 2001/02 season, the following shall apply:

11. For the purpose of Annex 220B, the target species is Champsocephalus gunnari and by-catch species are defined as any species other than Champsocephalus gunnari.

Data: Biological

12. Fine-scale biological data, as required under Annex 220/B, shall be collected and recorded. Such data shall be reported in accordance with the Scheme of International Scientific Observation.

Annex 220/A

Data Reporting System

A ten-day catch and effort reporting system shall be implemented:

(i) For the purpose of implementing this system, the calendar month shall be divided into three reporting periods, viz: Day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Champsocephalus gunnari and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date; and

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version.

These data shall be submitted to the CCAMLR Secretariat not later than one month after the vessel returns to port;

(ii) The catch of Champsocephalus gunnari and of all by-catch species must be reported;

(iii) The numbers of seabirds and marine mammals of each species caught and released or killed must be reported;

(iv) The scientific observer(s) aboard each vessel shall collect data on the length composition from representative samples of Champsocephalus gunnari and by-catch species:

(a) Length measurements shall be to the nearest centimetre below; and

(b) Representative samples of length composition shall be taken from each fine-scale grid rectangle (0.5° latitude by 1° longitude) fished in each calendar month; and

(v) The above data shall be submitted to the CCAMLR Secretariat not later than one month after the vessel returns to port.

Conservation Measure 221/XX

Limits on the Fishery for Dissostichus eleginoides in Statistical Subarea 48.3 in the 2001/02 Season

The Commission hereby adopts the following conservation measure in accordance with Conservation Measure 7/V:

Access

1. The fishery for Dissostichus eleginoides in Statistical Subarea 48.3 shall be conducted by vessels using longlines and pots only.

Catch Limit

2. The total catch of Dissostichus eleginoides in Statistical Subarea 48.3 in the 2001/02 season shall be limited to 5 820 tonnes.

Season

3. For the purpose of the longline fishery for Dissostichus eleginoides in Statistical Subarea 48.3, the 2001/02 season is defined as the period from 1 May to 31 August 2002, or until the catch limit is reached, whichever is sooner. For the purpose of the pot fishery for Dissostichus eleginoides in Statistical Subarea 48.3, the 2001/02 season is defined as the period from 1 December 2001 to 30 November 2002, or until the catch limit is reached, whichever is sooner.

By-Catch

4. The by-catch of crab shall be counted against the catch limit in the crab fishery in Subarea 48.3.

5. The by-catch of finfish in the fishery for Dissostichus eleginoides in Statistical Subarea 48.3 in the 2001/02 season shall not exceed 291 tonnes for skates and rays and 291 tonnes for Macrourus spp. For the purpose of these by-catch limits, skates and rays shall be counted as a single species.

6. If the by-catch of any one species is equal to or greater than 1 tonne in any one haul or set, then the fishing vessel shall move to another location at least 5 n-miles ¹ distant. The fishing vessel shall not return to any point within 5 n miles of the location where the by-catch exceeded 1 tonne for a period of at least five days.² The location where the by-catch exceeded 1 tonne is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The specified period is adopted in accordance with the reporting period specified in Conservation Measure 51/XIX, pending the adoption of a more appropriate period by the Commission.

Mitigation

7. The operation of this fishery shall be carried out in accordance with Conservation Measure 29/XIX so as to minimise the incidental mortality of seabirds in the course of fishing.

Observers

8. Each vessel participating in this fishery shall have at least one scientific observer appointed in accordance with the CCAMLR Scheme of International Scientific Observation, and where possible one additional scientific observer, on board throughout all fishing activities within the fishing period.

Data: Catch/Effort

9. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

10. For the purpose of Conservation Measures 51/XIX and 122/XIX, the target species is Dissostichus eleginoides and by-catch species are defined as any species other than Dissostichus eleginoides.

11. The total number and weight of Dissostichus eleginoides discarded, including those with the ‘jellymeat’ condition, shall be reported. These fish will count towards the total allowable catch.

Data: Biological

12. Fine-scale biological data, as required under Conservation Measure 121/XIX, shall be collected and recorded. Such data shall be reported in accordance with the Scheme of International Scientific Observation.

Conservation Measure 222/XX

Limits on the Fishery for Dissostichus eleginoides in Statistical Division 58.5.2 in the 2001/02 Season

Access

1. The fishery for Dissostichus eleginoides in Statistical Division 58.5.2 shall be conducted by vessels using trawls only.

Catch Limit

2. The total catch of Dissostichus eleginoides in Statistical Division 58.5.2 in the 2001/02 season shall be limited to 2 815 tonnes.

Season

3. For the purpose of the trawl fishery for Dissostichus eleginoides in Statistical Division 58.5.2, the 2001/02 season is defined as the period from 1 December 2001 to 30 November 2002, or until the catch limit is reached, whichever is sooner.

By-Catch

4. Fishing shall cease if the by-catch of any species reaches its by-catch limit as set out in Conservation Measure 224/XX.

Mitigation

5. The operation of this fishery shall be carried out in accordance with Conservation Measure 173/XVIII so as to minimise the incidental mortality of seabirds in the course of fishing.

Observers

6. Each vessel participating in this fishery shall have at least one scientific observer, and may include one appointed in accordance with the CCAMLR Scheme of International Scientific Observation, on board throughout all fishing activities within the fishing period.

Data: Catch/Effort

7. For the purpose of implementing this conservation measure in the 2001/02 season, the following shall apply:

(i) The Ten-day Catch and Effort Reporting System set out in Annex 222/A; and

(ii) The Monthly Fine-scale Catch and Effort Reporting System set out in Annex 222/A. Fine-scale data shall be submitted on a haul-by-haul basis.

8. For the purpose of Annex 222/A, the target species is Dissostichus eleginoides and by-catch species are defined as any species other than Dissostichus eleginoides.

9. The total number and weight of Dissostichus eleginoides discarded, including those with the ‘jellymeat’ condition, shall be reported. These fish will count towards the total allowable catch.

Data: Biological

10. Fine-scale biological data, as required under Annex 222/A, shall be collected and recorded. Such data shall be reported in accordance with the Scheme of International Scientific Observation.

Annex 222/A

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Dissostichus eleginoides and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date; and

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Dissostichus eleginoides and of all by-catch species must be reported;

(iii) The numbers of seabirds and marine mammals of each species caught and released or killed must be reported;

(iv) The scientific observer(s) aboard each vessel shall collect data on the length composition from representative samples of Dissostichus eleginoides and by-catch species:

(a) Length measurements shall be to the nearest centimetre below; and

(b) Representative samples of length composition shall be taken from each fine-scale grid rectangle (0.5° latitude by 1° longitude) fished in each calendar month; and

(v) The above data shall be submitted to the CCAMLR Secretariat not later than one month after the vessel returns to port.

Conservation Measure 223/XX

Precautionary Catch Limit for Electrona carlsbergi in Statistical Subarea 48.3 in the 2001/02 Season

The Commission hereby adopts the following conservation measure in accordance with Conservation Measure 7/V:

1. For the purposes of this conservation measure the fishing season for Electrona carlsbergi is defined as the period from December 1, 2001 to November 30, 2002.

2. The total catch of Electrona carlsbergi in the 2001/02 season shall be limited to 109,000 tonnes in Statistical Subarea 48.3.

3. In addition, the total catch of Electrona carlsbergi in the 2001/02 season shall be limited to 14,500 tonnes in the Shag Rocks region, defined as the area bounded by 52°30′S, 40°W; 52°30′S, 44°W; 54°30′S, 40°W and 54°30′, 44°W.

4. In the event that the catch of Electrona carlsbergi is expected to exceed 20,000 tonnes in the 2001/02 season, a survey of stock biomass and age structure shall be conducted during that season by the principal fishing nations involved. A full report of this survey including data on stock biomass (specifically including area surveyed, survey design and density estimates), age structure and the biological characteristics of the by-catch shall be made available in advance for discussion at the meeting of the Working Group on Fish Stock Assessment in 2002.

5. The directed fishery for Electrona carlsbergi in Statistical Subarea 48.3 shall close if the by-catch of any of the species named in Conservation Measure 95/XIV reaches its by-catch limit or if the total catch of Electrona carlsbergi reaches 109,000 tonnes, whichever is sooner.

6. The directed fishery for Electrona carlsbergi in the Shag Rocks region shall close if the by-catch of any of the species named in Conservation Measure 95/XIV reaches its by-catch limit or if the total catch of Electrona carlsbergi reaches 14,500 tonnes, whichever is sooner.

7. If, in the course of the directed fishery for Electrona carlsbergi, the by-catch in any one haul of any species other than the target species—

• Is greater than 100 kg and exceeds 5% of the total catch of all fish by weight, or

• Is equal to or greater than 2 tonnes, then the fishing vessel shall move to another fishing location at least 5 n miles distant.¹ The fishing vessel shall not return to any point within 5 n miles of the location where the by-catch of species, other than the target species, exceeded 5%, for a period of at least five days.² The location where the by-catch exceeded 5% is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The specified period is adopted in accordance with the reporting period specified in Conservation Measure 51/XIX, pending the adoption of a more appropriate period by the Commission.

8. For the purpose of implementing this conservation measure:

(i) The Catch Reporting System set out in Conservation Measure 40/X shall apply in the 2001/02 season;

(ii) The Monthly Fine-scale Catch and Effort Data Reporting System set out in Conservation Measure 122/XIX shall also apply in the 2001/02 season. For the purposes of Conservation Measure 122/XIX, the target species is Electrona carlsbergi, and ‘by-catch species’ are defined as any cephalopod, crustacean or fish species other than Electrona carlsbergi; and

(iii) The Monthly Fine-scale Biological Data Reporting System set out in Conservation Measure 121/XIX shall also apply in the 2001/02 season. For the purposes of Conservation Measure 121/XIX, the target species is Electrona carlsbergi, and ‘by-catch species’ are defined as any cephalopod, crustacean or fish species other than Electrona carlsbergi. For the purposes of paragraph 3(ii) of Conservation Measure 121/XIX a representative sample shall be a minimum of 500 fish.

Conservation Measure 224/XX

Limitation of By-Catch in Statistical Division 58.5.2 in the 2001/02 Season

1. There shall be no directed fishing for any species other than Dissostichus eleginoides and Champsocephalus gunnari in Statistical Division 58.5.2 in the 2001/02 fishing season.

2. In directed fisheries in Statistical Division 58.5.2 in the 2001/02 season, the by-catch of Channichthys rhinoceratus shall not exceed 150 tonnes, and the by-catch of Lepidonotothen squamifrons shall not exceed 80 tonnes.

3. The by-catch of any fish species not mentioned in paragraph 2, and for which there is no other catch limit in force, shall not exceed 50 tonnes in Statistical Division 58.5.2. For the purposes of this measure, ‘Macrourus spp.’ and ‘skates and rays’ should each be counted as a single species.

4. If, in the course of a directed fishery, the by-catch in any one haul of Channichthys rhinoceratus or Lepidonotothen squamifrons is equal to, or greater than 2 tonnes, then the fishing vessel shall not fish using that method of fishing at any point within 5 n miles ¹ of the location where the by-catch exceeded 2 tonnes for a period of at least five days.² The location where the by-catch exceeded 2 tonnes is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The specified period is adopted in accordance with the reporting period specified in Conservation Measure 51/XIX, pending the adoption of a more appropriate period by the Commission.

5. If, in the course of a directed fishery, the by-catch in any one haul of any other by-catch species for which by-catch limitations apply under this conservation measure is equal to, or greater than 1 tonne, then the fishing vessel shall not fish using that method of fishing at any point within 5 n miles ¹ of the location where the by-catch exceeded 1 tonne for a period of at least five days.² The location where the by-catch exceeded 1 tonne is defined as the path followed by the fishing vessel from the point at which the fishing gear was first deployed from the fishing vessel to the point at which the fishing gear was retrieved by the fishing vessel.

Conservation Measure 225/XX

Limits on the Fishery for Crab in Statistical Subarea 48.3 in the 2001/02 Season

The Commission hereby adopts the following conservation measure in accordance with Conservation Measure 7/V:

Access

1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorized to participate in the crab fishery.

Catch Limit

4. The total catch of crab in Statistical Subarea 48.3 in the 2001/02 season shall not exceed a precautionary catch limit of 1.600 tonnes.

5. The crab fishery shall be limited to sexually mature male crabs—all female and undersized male crabs caught shall be released unharmed. In the case of Paralomis spinosissima and Paralomis formosa, males with a minimum carapace width of 94 mm and 90 mm, respectively, may be retained in the catch.

6. Crab processed at sea shall be frozen as crab sections (size of crabs can be determined using crab sections).

Season

7. For the purpose of the pot fishery for crab in Statistical Subarea 48.3, the 2001/02 season is defined as the period from December 1, 2001 to November 30, 2002, or until the catch limit is reached, whichever is sooner.

By-Catch

8. The by-catch of Dissostichus eleginoides shall be counted against the catch limit in the fishery for Dissostichus eleginoides in Statistical Subarea 48.3.

Observers

9. Each vessel participating in this fishery shall have at least one scientific observer appointed in accordance with the CCAMLR Scheme of International Scientific Observation, and where possible one additional scientific observer, on board throughout all fishing activities within the fishing period.

Data: Catch/Effort

10. For the purpose of implementing this conservation measure in the 2001/02 season, the following shall apply:

(i) The Ten-day Catch and Effort Reporting System set out in Conservation Measure 61/XII; and

(ii) The Monthly Fine-scale Catch and Effort Reporting System set out in Conservation Measure 122/XIX. Fine-scale data shall be submitted on a haul-by-haul basis.

11. For the purpose of Conservation Measures 61/XII and 122/XIX the target species is crab and by-catch species are defined as any species other than crab.

Data: Biological

12. Fine-scale biological data, as required under Conservation Measure 121/XIX, shall be collected and recorded. Such data shall be reported in accordance with the Scheme of International Scientific Observation.

Research

13. Each vessel participating in this exploratory fishery shall conduct fishery-based research in accordance with the data requirements described in Annex 225/A and the experimental harvest regime described in Conservation Measure 226/XX. Data collected for the period up to August 31, 2002 shall be reported to CCAMLR by September 30, 2002 so that the data will be available to the meeting of the Working Group on Fish Stock Assessment in 2002. Such data collected after August 31 shall be reported to CCAMLR not later than three months after the closure of the fishery.

Annex 225/A

Data Requirements on the Crab Fishery in Statistical Subarea 48.3

Catch and Effort Data:

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Table 1.—Data Requirements for By-Catch Species in the Crab Fishery in Statistical Subarea 48.3
Species | Data Requirements
Dissostichus eleginoides | Numbers and estimated total weight.
Notothenia rossii | Numbers and estimated total weight.
Other species | Estimated total weight.

Biological Data:

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Conservation Measure 226/XX

Experimental Harvest Regime for the Crab Fishery in Statistical Subarea 48.3 in the 2001/02 Season

The following measures apply to all crab fishing within Statistical Subarea 48.3 in the 2001/02 fishing season. Every vessel participating in the crab fishery in Statistical Subarea 48.3 shall conduct fishing operations in accordance with an experimental harvest regime as outlined below:

1. Vessels shall conduct the experimental harvest regime in the 2001/02 season at the start of their first season of participation in the crab fishery and the following conditions shall apply:

(i) Every vessel when undertaking an experimental harvesting regime shall expend its first 200,000 pot hours of effort within a total area delineated by twelve blocks of 0.5° latitude by 1.0° longitude. For the purposes of this conservation measure, these blocks shall be numbered A to L. In Annex 226/A, the blocks are illustrated(Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30,000 pot hours in any single block of 0.5° latitude by 1.0° longitude;

(iv) If a vessel returns to port before it has expended 200,000 pot hours in the experimental harvesting regime the remaining pot hours shall be expended before it can be considered that the vessel has completed the experimental harvesting regime; and

(v) After completing 200,000 pot hours of experimental fishing, it shall be considered that vessels have completed the experimental harvesting regime and they shall be permitted to commence fishing in a normal fashion.

2. Data collected during the experimental harvest regime up to June 30, 2002 shall be submitted to CCAMLR by August 31, 2002.

3. Normal fishing operations shall be conducted in accordance with the regulations set out in Conservation Measure 225/XX.

4. For the purposes of implementing normal fishing operations after completion of the experimental harvest regime, the Ten-day Catch and Effort Reporting System set out in Conservation Measure 61/XII shall apply.

5. Vessels that complete experimental harvest regime shall not be required to conduct experimental fishing in future seasons. However, these vessels shall abide by the guidelines set forth in Conservation Measure 225/XX.

6. Fishing vessels shall participate in the experimental harvest regime independently(i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

Conservation Measure 227/XX¹,²

¹ Except for waters adjacent to the Kerguelen and Crozet Islands.

² Except for waters adjacent to the Prince Edward Islands.

General Measures for Exploratory Fisheries for Dissostichus spp. in the Convention Area in the 2001/02 Season

The Commission,

Noting the need for the distribution of fishing effort and catch in fine-scale rectangles ³ in these exploratory fisheries,

³ A fine-scale rectangle is defined as an area of 0.5° latitude by 1° longitude with respect to the northwest corner of the statistical subarea or division. The identification of each rectangle is by the latitude of its northernmost boundary and the longitude of the boundary closest to 0°.

hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any fine-scale rectangle shall cease when the reported catch reaches 100 tonnes and that rectangle shall be closed to fishing for the remainder of the season. Fishing in any fine-scale rectangle shall be restricted to one vessel at any one time.

3. In order to give effect to paragraph 2 above:

(i) The precise geographic position of a haul in trawl fisheries will be determined by the mid-point of the path between the start-point and end-point of the haul;

(ii) The precise geographic position of a haul in longline fisheries will be determined by the centre-point of the line or lines deployed;

(iii) Catch and effort information for each species by fine-scale rectangle shall be reported to the Executive Secretary every five days using the Five-Day Catch and Effort Reporting System set out in Conservation Measure 51/XIX; and

(iv) The Secretariat shall notify Contracting Parties participating in these fisheries when the total catch for Dissostichus eleginoides and Dissostichus mawsoni combined in any fine-scale rectangle is likely to reach 100 tonnes, and fishing in that fine-scale rectangle shall be closed when that limit is reached.

4. The by-catch in each exploratory fishery shall be regulated as in Conservation Measure 228/XX.

5. The total number and weight of Dissostichus eleginoides and Dissostichus mawsoni discarded, including those with the ‘jellymeat’ condition, shall be reported.

6. Each vessel participating in the exploratory fisheries for Dissostichus spp. during the 2001/02 season shall have one scientific observer appointed in accordance with the CCAMLR Scheme of International Scientific Observation, and where possible one additional scientific observer, on board throughout all fishing activities within the fishing season.

7. The Data Collection Plan (Annex 227/A) and Research Plan (Annex 227/B) shall be implemented. Data collected pursuant to the Data Collection and Research Plans for the period up to August 31, 2002 shall be reported to CCAMLR by September 30, 2002 so that the data will be available to the meeting of the Working Group on Fish Stock Assessment (WG-FSA) in 2002. Such data taken after August 31 shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

Annex 227/A

Data Collection Plan for Exploratory Fisheries

1. All vessels will comply with the Five-day Catch and Effort Reporting System (Conservation Measure 51/XIX) and Monthly Fine-scale Catch, Effort and Biological Data Reporting Systems (Conservation Measures 121/XIX and 122/XIX).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms; and

(viii) Observation on occurrence and incidental mortality of seabirds and mammals in relation to fishing operations.

3. Data specific to longline fisheries will be collected. These include:

(i) Position and sea depth at each end of every line in a haul;

(ii) Setting, soak, and hauling times;

(iii) Number and species of fish lost at surface;

(iv) Number of hooks set;

(v) Bait type;

(vi) Baiting success (%);

(vii) Hook type; and

(viii) Sea and cloud conditions and phase of the moon at the time of setting the lines.

Annex 227/B

Research Plan for Exploratory Fisheries

1. Activities under this research plan shall not be exempted from any conservation measure in force.

2. This plan applies to all small-scale research units (SSRUs) as defined in Table 1 and Figure 1.

3. Any vessel undertaking prospecting or commercial fishing in any SSRU must undertake the following research activities:

(i) On first entry into a SSRU, the first 10 hauls, designated ‘first series’, whether by trawl or longline, should be designated ‘research hauls’ and must satisfy the criteria set out in paragraph 4.

(ii) The next 10 hauls, or 10 tonnes of catch for longlining, whichever trigger level is achieved first, or 10 tonnes of catch for trawling, are designated the ‘second series’. Hauls in the second series can, at the discretion of the master, be fished as part of normal exploratory fishing. However, provided they satisfy the requirements of paragraph 4, these hauls can also be designated as research hauls.

(iii) On completion of the first and second series of hauls, if the master wishes to continue to fish within the SSRU, the vessel must undertake a ‘third series’ which will result in a total of 20 research hauls being made in all three series. The third series of hauls shall be completed during the same visit as the first and second series in a SSRU.

(iv) On completion of 20 research hauls the vessel may continue to fish within the SSRU.

(v) When either the catch limit or the end of the fishing season is reached, all fishing within the designated area should cease.

4. To be designated as a research haul:

(i) Each research haul must be separated by not less than 5 n miles from any other research haul, distance to be measured from the geographical mid-point of each research haul;

(ii) Each haul shall comprise: for longlines, at least 3 500 hooks and no more than 10 000 hooks; this may comprise a number of separate lines set in the same location; for trawls, at least 30 minutes effective fishing time as defined in the Draft Manual for Bottom Trawl Surveys in the Convention Area (SC-CAMLR-XI,Annex 5, Appendix H, Attachment E, paragraph 4); and

(iii) Each haul of a longline shall have a soak time of not less than six hours, measured from the time of completion of the setting process to the beginning of the hauling process.

5. All data specified in the Data Collection Plan (Annex 227/A) of this conservation measure shall be collected for every research haul; in particular, all fish in a research haul up to 100 fish are to be measured and at least 30 fish sampled for biological studies(paragraphs 2(iv) to 2(vi) of Annex 227/A). Where more than 100 fish are caught, a method for randomly subsampling the fish should be applied.

Table 1.—The Coordinates of the Small-Scale Research Units (SSRUs)
[Figure 1]
Subarea/division | SSRU | Grid coordinates: Top left latutude | Grid coordinates: Top left longitude | Grid coordinates: Bottom right latitude | Grid coordinates: Bottom right longitude
58.4.1 | A | 55 S | 80 E | 64 S | 89 E
58.4.3 | A | 55 S | 60 E | 62 S | 73.5 E
58.4.3 | B | 55 S | 73.5 E | 62 S | 80 E
58.4.4 | A | 51 S | 40 E | 54 S | 42 E
58.4.4 | B | 51 S | 42 E | 54 S | 46 E
58.4.4 | C | 51 S | 46 E | 54 S | 50 E
58.4.4 | D | Areas outside SSRUs A, B, C
58.7 | A | 45 S | 37 E | 48 S | 40 E
58.6 | A | 45 S | 40 E | 48 S | 44 E
58.6 | B | 45 S | 44 E | 48 S | 48 E
58.6 | C | 45 S | 48 E | 48 S | 51 E
58.6 | D | 45 S | 51 E | 48 S | 54 E
88.1 | A | 60 S | 150 E | 65 S | 170 W
88.1 | B | 65 S | 150 E | 72 S | 180
88.1 | C | 65 S | 180 | 72 S | 170 W
88.1 | D | 72 S | 160 E | 84 S | 180
88.1 | E | 72 S | 180 | 84.5 S | 170 W
Note.—Subarea 88.2 is divided into six 10° longitudinal sections and one 5° longitudinal section; designated A-G from west to east. Subarea 48.6 is divided into one section north of 60° (A) and five 10° longitudinal sections south of 60°; designated B-F from west to east.

Conservation Measure 228/XX¹

Limitation of By-Catch in New and Exploratory Fisheries in the 2001/02 Season

1. This conservation measure applies to new and exploratory fisheries in all areas containing small-scale research units (SSRUs) in the 2001/02 season except where specific by-catch conservation measures apply.

¹ Except for waters adjacent to the Kerguelen and Crozet Islands.

2. The by-catch of any species other than Macrourus spp. shall be limited to the following:

• In each SSRU in Statistical Subarea 48.6, Statistical Division 58.4.2 and Statistical Subarea 88.1 south of 65°S, and in Statistical Division 58.4.3b, the by-catch of any species shall be limited to 50 tonnes; and

• In other SSRUs, the by-catch of any species shall be limited to 20 tonnes.

3. The by-catch of Macrourus spp. shall be limited to the following:

• In each SSRU in Statistical Subarea 48.6, Statistical Division 58.4.2 and Statistical Subarea 88.1 south of 65°S, and in Statistical Division 58.4.3b, the by-catch of Macrourus spp. shall be limited to 100 tonnes; and

• In other SSRUs, the by-catch of Macrourus spp. shall be limited to 40 tonnes.

4. For the purposes of this measure, “Macrourus spp.” and “skates and rays” should each be counted as a single species.

5. If the by-catch of any one species is equal to or greater than 1 tonne in any one haul or set, then the fishing vessel shall move to another location at least 5 n mile ² distant. The fishing vessel shall not return to any point within 5 n miles of the location where the by-catch exceeded 1 tonne for a period of at least five days ³. The location where the by-catch exceeded 1 tonne is defined as the path followed by the fishing vessel from the point at which the fishing gear was first deployed from the fishing vessel to the point at which the fishing gear was retrieved by the fishing vessel.

² This provision concerning the minimum distance separating fishing locations is adopted pending the adoption of a more appropriate definition of a fishing location by the Commission.

³ The specified period is adopted in accordance with the reporting period specified in Conservation Measure 51/XIX, pending the adoption of a more appropriate period by the Commission.

Conservation Measure 229/XX

Limits on the Exploratory Fishery for Dissostichus spp. in Statistical Subarea 48.6 in the 2001/02 Season

The Commission hereby adopts the following conservation measure in accordance with Conservation Measure 65/XII:

Access

1. Fishing for Dissostichus spp. in Statistical Subarea 48.6 shall be limited to the exploratory longline fishery by Japan, New Zealand, South Africa and Uruguay. The fishery shall be conducted by Japanese, New Zealand, South African and Uruguayan-flagged vessels using longlines only. No more than one vessel per country shall fish at any one time.

Catch Limit

2. The total catch of Dissostichus spp. in Statistical Subarea 48.6 in the 2001/02 season shall not exceed a precautionary catch limit of 455 tonnes north of 60°S and 455 tonnes south of 60°S.

Season

3. For the purpose of the exploratory longline fishery for Dissostichus spp. in Statistical Subarea 48.6, the 2001/02 season is defined as the period from March 1 to August 31, 2002 north of 60°S and the period from February 15 to October 15 2002 south of 60°S. In the event that either limit is reached, the relevant fishery shall be closed.

By-Catch

4. The by-catch in this fishery shall be regulated as set out in Conservation Measure 228/XX.

Mitigation

5. The exploratory longline fishery for Dissostichus spp. in Statistical Subarea 48.6 shall be carried out in accordance with the provisions of Conservation Measure 29/XIX, except paragraph 3 (night setting) shall not apply south of 60°S. South of 60°S, prior to licensing, each vessel shall demonstrate its capacity to comply with experimental line-weighting trials as approved by the Scientific Committee and described in Conservation Measure 216/XX and such data shall be reported to the Secretariat immediately.

6. South of 60°S, longlines may be set during daylight hours only if the vessels are demonstrating a consistent minimum line sink rate of 0.3 m/s. Any vessel catching a total of three (3) seabirds shall immediately revert to night setting in accordance with Conservation Measure 29/XIX.

7. There shall be no offal discharge in this fishery.

Observers

8. Each vessel participating in this fishery shall have at least one scientific observer appointed in accordance with the CCAMLR Scheme of International Scientific Observation, and where possible one additional scientific observer, on board throughout all fishing activities within the fishing period.

Data: Catch/Effort

9. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

10. For the purpose of Conservation Measures 51/XIX and 122/XIX, the target species is Dissostichus spp. and by-catch species are defined as any species other than Dissostichus spp.

Data: Biological

11. Fine-scale biological data, as required under Conservation Measure 121/XIX, shall be collected and recorded. Such data shall be reported in accordance with the Scheme of International Scientific Observation.

Research

12. Each vessel participating in this exploratory fishery shall conduct fishery-based research in accordance with the Research Plan described in Conservation Measure 227/XX, Annex B.

Conservation Measure 230/XX

Limits on the Demersal Trawl Fisheries in Statistical Division 58.4.2 in the 2001/02 Season

The Commission hereby adopts the following conservation measure for the exploratory fishery for Dissostichus spp. in accordance with Conservation Measure 65/XII and the new fishery for Macrourus spp. in accordance with Conservation Measure 31/X:

Access

1. Fishing for Dissostichus spp. in Statistical Division 58.4.2 shall be limited to the exploratory trawl fishery by Australia. Fishing for Macrourus spp. in Statistical Division 58.4.2 shall be limited to the new trawl fishery by Australia. The fisheries shall be conducted by Australian-flagged vessels using trawls only.

Catch Limit

2. The total catch of Dissostichus spp. in Statistical Division 58.4.2 in the 2001/02 season shall not exceed a precautionary catch limit of 500 tonnes, of which no more than 200 tonnes shall be taken in any one of the three zones bounded by longitudes 40°E to 50°E, 50°E to 57°E and 57°E to 70°E.

3. The total catch of Macrourus spp. in Statistical Division 58.4.2 in the 2001/02 season shall not exceed a precautionary catch limit of 150 tonnes, of which no more than 100 tonnes shall be taken in any one of the three zones bounded by longitudes 40°E to 50°E, 50°E to 57°E and 57°E to 70°E.

Season

4. For the purpose of the exploratory trawl fishery for Dissostichus spp. and the new fishery for Macrourus spp. in Statistical Division 58.4.2, the 2001/02 season is defined as the period from December 1, 2001 to November 30, 2002, or until the catch limit of either species is reached, whichever is sooner.

By-Catch

5. The by-catch in this fishery shall be regulated as set out in Conservation Measure 228/XX. The provisions governing by-catch of Macrourus spp. contained in Conservation Measure 228/XX do not apply to this fishery.

Mitigation

6. The operation of this fishery shall be carried out in accordance with Conservation Measure 173/XVIII so as to minimise the incidental mortality of seabirds in the course of fishing.

Observers

7. Each vessel participating in this fishery shall have at least one scientific observer appointed in accordance with the CCAMLR Scheme of International Scientific Observation, and where possible one additional scientific observer, on board throughout all fishing activities within the fishing period.

Data: Catch/Effort

8. For the purpose of implementing this conservation measure in the 2001/02 season, the following shall apply:

(i) the Five-day Catch and Effort Reporting System set out in Conservation Measure 51/XIX; and

(ii) the Monthly Fine-scale Catch and Effort Reporting System set out in Conservation Measures 122/XIX. Fine-scale data shall be submitted on a haul-by-haul basis.

9. For the purpose of Conservation Measures 51/XIX and 122/XIX, the target species is Dissostichus spp. and by-catch species are defined as any species other than Dissostichus spp.

10. The total number and weight of Dissostichus spp. discarded, including those with the “jellymeat” condition, shall be reported. These fish will count towards the total allowable catch.

Data: Biological

11. Fine-scale biological data, as required under Conservation Measure 121/XIX shall be collected and recorded. Such data shall be reported in accordance with the Scheme of International Scientific Observation.

Research

12. Each vessel participating in this exploratory fishery shall conduct fishery-based research in accordance with the data collection and research plans described in Annex 230/A. The results shall be reported to CCAMLR not later than three months after the closure of the fishery.

Annex 230/A

Data Collection and Research Plans

1. Demersal trawling for Dissostichus spp. and Macrourus spp. in water shallower than 550 m shall be prohibited except for the research activities described below:

(i) Demersal trawling shall be allowed only in designated “open” areas on the upper and mid-slope in depths greater than 550 m;

(ii) The manner in which areas are designated “open” and “closed” for demersal trawling will be determined according to the following procedure:

(a) Open and closed areas will consist of a series of north-south strips extending from the coast to beyond the foot of the continental slope. Each strip will be one degree of longitude wide;

(b) In the first instance, when the vessel has found an appropriate area for prospecting or fishing, it will designate the strip as open, with the area to be fished to be approximately centred in that strip;

(c) A single prospecting haul will be permitted in that strip before it is designated as open or closed, to establish if an aggregation of interest is present. There must be a minimum of 30 minutes of longitude between prospecting hauls where no strip is designated open;

(d) Whenever a strip is designated open, at least one strip adjacent to that strip must be designated as closed. Any remnant strips less than one degree wide resulting from the previous selection of open and closed strips, will be designated as closed;

(e) Once a strip is designated closed it cannot be subsequently fished in that season by any method that allows fishing gear to contact the bottom;

(f) Prior to commercial fishing in an open strip, the vessel must undertake the survey trawls in the open strip as described below. The survey trawls in the adjacent closed strip must be undertaken prior to the vessel fishing a new strip. If the adjacent closed strip has already been surveyed, a new survey is not necessary; and

(g) When the vessel wishes to fish in a new strip, it must not choose a strip already closed. Once a new strip is designated, conditions as described in paragraphs (b) to (f) will apply to that strip.

2. Survey trawls in each open strip and its adjacent closed strip will be conducted according to the following scheme:

(i) Each pair of strips will be divided between the shelf area above 550 m and the slope area below 550 m. In each open and closed strip the following research shall be undertaken:

(a) In the section deeper than 550 m, two stations (whose locations have been randomly pre-selected according to depth and longitude) shall be sampled. At each of these stations a beam trawl sample of benthos and a bottom-trawl sample of finfish using a commercial trawl with a small mesh liner shall be taken;

(b) In the section shallower than 550 m, two stations shall be sampled at randomly pre-selected sites according to depth and longitude for benthos using a beam trawl once at each station only; and

(c) This will be undertaken in each pair of the open and closed strips using the process described above.

3. The following data and material will be collected from research and commercial hauls, as required by the CCAMLR Scientific Observers Manual:

(i) Position, date and depth at the start and end of every haul;

(ii) Haul-by haul catch and catch per effort by species;

(iii) Haul-by haul length frequency of common species;

(iv) Sex and gonad state of common species;

(v) Diet and stomach fullness;

(vi) Scales and/or otoliths for age determination;

(vii) By-catch of fish and other organisms; and

(viii) Observations on the occurrence of seabirds and mammals in relation to fishing operations, and details of any incidental mortality of these animals.

Conservation Measure 231/XX

Limits on the Exploratory Fishery for Dissostichus spp. on Elan Bank (Statistical Division 58.4.3a) Outside Areas of National Jurisdiction in the 2001/02 Season

The Commission hereby adopts the following conservation measure in accordance with Conservation Measure 65/XII:

Access

1. Fishing for Dissostichus spp. on Elan Bank (Statistical Division 58.4.3a) outside areas of national jurisdiction shall be limited to the exploratory longline fishery by France and Japan. The fishery shall be conducted by French and Japanese-flagged vessels using longlines only. No more than one vessel per country shall fish at any one time.

Catch Limit

2. The total catch of Dissostichus spp. on Elan Bank (Statistical Division 58.4.3a) outside areas of national jurisdiction in the 2001/02 season shall not exceed a precautionary catch limit of 250 tonnes.

Season

3. For the purpose of the exploratory longline fishery for Dissostichus spp. on Elan Bank (Statistical Division 58.4.3a) outside areas of national jurisdiction, the 2001/02 season is defined as the period from May 1 to August 31, 2002, or until the catch limit is reached, whichever is sooner.

By-Catch

4. The by-catch in this fishery shall be regulated as set out in Conservation Measure 228/XX.

Mitigation

5. The operation of this fishery shall be carried out in accordance with Conservation Measure 29/XIX so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2001/02 season, the following shall apply:

(i) The Five-day Catch and Effort Reporting System set out in Conservation Measure 51/XIX; and

(ii) The Monthly Fine-scale Catch and Effort Reporting System set out in Conservation Measures 122/XIX. Fine-scale data shall be submitted on a haul-by-haul basis.

8. For the purpose of Conservation Measures 51/XIX and 122/XIX, the target species is Dissostichus spp. and by-catch species are defined as any species other than Dissostichus spp.

Data: Biological

9. Fine-scale biological data, as required under Conservation Measure 121/XIX, shall be collected and recorded. Such data shall be reported in accordance with the Scheme of International Scientific Observation.

Research

10. Each vessel participating in this exploratory fishery shall conduct fishery-based research in accordance with the research plan described in Conservation Measure 227/XX, Annex B.

Conservation Measure 232/XX

Limits on the Exploratory Fishery for Dissostichus spp. on BANZARE Bank (Statistical Division 58.4.3b) Outside Areas of National Jurisdiction in the 2001/02 Season

The Commission hereby adopts the following conservation measure in accordance with Conservation Measure 65/XII:

Access

1. Fishing for Dissostichus spp. on BANZARE Bank (Statistical

Division 58.4.3b) outside areas of national jurisdiction shall be limited to the exploratory longline fishery by France and Japan. The fishery shall be conducted by French and Japanese-flagged vessels using longlines only. No more than one vessel per country shall fish at any one time.

Catch Limit

2. The total catch of Dissostichus spp. on BANZARE Bank(Statistical Division 58.4.3b) outside areas of national jurisdiction in the 2001/02 season shall not exceed a precautionary catch limit of 300 tonnes.

Season

3. For the purpose of the exploratory longline fishery for Dissostichus spp. on BANZARE Bank (Statistical Division 58.4.3b) outside areas of national jurisdiction, the 2001/02 season is defined as the period from May 1 to August 31, 2002, or until the catch limit is reached, whichever is sooner.

By-Catch

4. The by-catch in this fishery shall be regulated as set out in Conservation Measure 228/XX.

Mitigation

5. The operation of this fishery shall be carried out in accordance with Conservation Measure 29/XIX so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

8. For the purpose of Conservation Measures 51/XIX and 122/XIX, the target species is Dissostichus spp. and by-catch species are defined as any species other than Dissostichus spp.

Data: Biological

9. Fine-scale biological data, as required under Conservation Measure 121/XIX, shall be collected and recorded. Such data shall be reported in accordance with the Scheme of International Scientific Observation.

Research

10. Each vessel participating in this exploratory fishery shall conduct fishery-based research in accordance with the research plan described in Conservation Measure 227/XX, Annex B.

Conservation Measure 233/XX

Limits on the Exploratory Fishery for Dissostichus eleginoides in Statistical Division 58.4.4 Outside Areas of National Jurisdiction in the 2001/02 Season

The Commission hereby adopts the following conservation measure in accordance with Conservation Measure 65/XII:

Access

1. Fishing for Dissostichus eleginoides in Statistical Division 58.4.4 outside areas of national jurisdiction shall be limited to the exploratory longline fishery by France, Japan, South Africa and Uruguay. The fishery shall be conducted by French, Japanese, South African and Uruguayan-flagged vessels using longlines only. No more than one vessel shall fish at any one time.

Catch Limit

2. The total catch of Dissostichus eleginoides in Statistical Division 58.4.4 outside areas of national jurisdiction in the 2001/02 season shall not exceed a precautionary catch limit of 103 tonnes.

Season

3. For the purpose of the exploratory longline fishery for Dissostichus eleginoides in Statistical Division 58.4.4 outside areas of national jurisdiction, the 2001/02 season is defined as the period from May 1 to August 31, 2002, or until the catch limit is reached, whichever is sooner.

By-Catch

4. The by-catch in this fishery shall be regulated as set out in Conservation Measure 228/XX.

Mitigation

5. The operation of this fishery shall be carried out in accordance with Conservation Measure 29/XIX so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

8. For the purpose of Conservation Measures 51/XIX and 122/XIX, the target species is Dissostichus spp. and by-catch species are defined as any species other than Dissostichus spp.

Data: Biological

9. Fine-scale biological data, as required under Conservation Measure 121/XIX, shall be collected and recorded. Such data shall be reported in accordance with the System of International Scientific Observation.

Research

10. Every haul in this exploratory fishery shall meet the requirements of research hauls in Conservation Measure 227/XX Annex B, paragraph 4.

11. This fishery is exempted from paragraph 7 of Conservation Measure 227/XX except:

(i) On entry into an SSRU as described in Conservation Measure 227/XX, Annex B, Table 1, each vessel shall undertake 10 hauls prior to moving to another SSRU provided that the fishery has not been closed;

(ii) Provisions for data collection in Conservation Measure 227/XX, Annex B, paragraph 5 shall apply;

(iii) The Data Collection Plan in Conservation Measure 227/XX, Annex A will apply; and

(iv) Data collected pursuant to the Data Collection and Research Plans for the period up to August 31, 2002 shall be reported to CCAMLR by September 30, 2002 so that the data will be available to the meeting of the Working Group on Fish Stock Assessment (WG-FSA) in 2002. Such data taken after August 31 shall be reported to CCAMLR not later than three months after the closure of the fishery, but, where possible, submitted in time for the consideration of WG-FSA.

Conservation Measure 234/XX

Limits on the Exploratory Fishery for Dissostichus eleginoides in Statistical Subarea 58.6 Outside Areas of National Jurisdiction in the 2001/02 Season

The Commission hereby adopts the following conservation measure in accordance with Conservation Measure 65/XII:

Access

1. Fishing for Dissostichus eleginoides in Statistical Subarea 58.6 outside areas of national jurisdiction shall be limited to the exploratory longline fishery by Chile, France, Japan and South Africa. The fishery shall be conducted by Chilean, French, Japanese and South African-flagged vessels using longlines only. No more than one vessel per country shall fish at any one time.

Catch Limit

2. The total catch of Dissostichus eleginoides in Statistical Subarea 58.6 outside areas of national jurisdiction in the 2001/02 season shall not exceed a precautionary catch limit of 450 tonnes.

Season

3. For the purpose of the exploratory longline fishery for Dissostichus eleginoides in Statistical Subarea 58.6 outside areas of national jurisdiction, the 2001/02 season is defined as the period from 1 May to August 31, 2002, or until the catch limit is reached, whichever is sooner.

By-Catch

4. The by-catch in this fishery shall be regulated as set out in Conservation Measure 228/XX.

Mitigation

5. The operation of this fishery shall be carried out in accordance with Conservation Measure 29/XIX so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2001/02 season, the following shall apply:

(i) The Five-day Catch and Effort Reporting System set out in Conservation Measure 51/XIX; and

(ii) The Monthly Fine-scale Catch and Effort Reporting System set out in Conservation Measure 122/XIX. Fine-scale data shall be submitted on a haul-by-haul basis.

8. For the purpose of Conservation Measures 51/XIX and 122/XIX, the target species is Dissostichus spp. and by-catch species are defined as any species other than Dissostichus spp.

Data: Biological

9. Fine-scale biological data, as required under Conservation Measure 121/XIX, shall be collected and recorded. Such data shall be reported in accordance with the Scheme of International Scientific Observation.

Research

10. Each vessel participating in this exploratory fishery shall conduct fishery-based research in accordance with the Research Plan described in Conservation Measure 227/XX, Annex B.

Conservation Measure 235/XX

Limits on the Exploratory Fishery for Dissostichus spp. in Statistical Subarea 88.1 in the 2001/02 Season

The Commission hereby adopts the following conservation measure in accordance with Conservation Measure 65/XII:

Access

1. Fishing for Dissostichus spp. in Statistical Subarea 88.1 shall be limited to the exploratory longline fishery by Japan, New Zealand, Russia and South Africa. The fishery shall be conducted by a maximum in the season of one (1) Japanese, four (4) New Zealand, three (3) Russian and two (2) South African-flagged vessels¹ using longlines only.

¹ As notified to the Secretariat in accordance with Conservation Measure 65/XII paragraph 2(iv).

Catch Limit

2. The total catch of Dissostichus spp. in Statistical Subarea 88.1 in the 2001/02 season shall not exceed a precautionary catch limit of 171 tonnes north of 65°S and 2 337 tonnes south of 65°S.

3. In order to ensure an adequate spread of fishing effort south of 65°S, the total catch of Dissostichus spp. shall not exceed a precautionary catch limit of 584 tonnes in each of the four small-scale research units (SSRUs) identified for Statistical Subarea 88.1 south of 65°S, as defined in Conservation Measure 227/XX, Annex B.

Season

4. For the purpose of the exploratory longline fishery for Dissostichus spp. in Statistical Subarea 88.1, the 2001/02 season is defined as the period from December 1, 2001 to August 31, 2002.

Fishing Operations

5. The exploratory longline fishery for Dissostichus spp. in Statistical Subarea 88.1 shall be carried out in accordance with the provisions of Conservation Measure 227/XX, except paragraph 6.

By-Catch

6. The by-catch in this fishery shall be regulated as set out in Conservation Measure 228/XX.

Mitigation

7. The exploratory longline fishery for Dissostichus spp. in Statistical Subarea 88.1 shall be carried out in accordance with the provisions of Conservation Measure 29/XIX, except paragraph 3 (night setting) shall not apply. Prior to licensing, each vessel shall demonstrate its capacity to comply with experimental line-weighting trials as approved by the Scientific Committee and described in Conservation Measure 216/XX and such data shall be reported to the Secretariat immediately.

8. In Statistical Subarea 88.1, longlines may be set during daylight hours only if the vessels are demonstrating a consistent minimum line sink rate of 0.3 m/s in accordance with Conservation Measure 216/XX. Any vessel catching a total of three (3) seabirds shall immediately revert to night setting in accordance with Conservation Measure 29/XIX.

9. There shall be no offal discharge in this fishery.

Observers

10. Each vessel participating in the fishery shall have at least two scientific observers, one of whom shall be an observer appointed in accordance with the CCAMLR Scheme of International Scientific Observation, on board throughout all fishing activities within the fishing period.

VMS

11. Each vessel participating in this exploratory longline fishery shall be required to operate a VMS at all times, in accordance with Conservation Measure 148/XX.

CDS

12. Each vessel participating in this exploratory longline fishery shall be required to participate in the Catch Documentation Scheme for Dissostichus spp., in accordance with Conservation Measure 170/XX.

Research

13. Each vessel participating in this exploratory fishery shall conduct fishery-based research in accordance with the research plan described in Conservation Measure 227/XX, Annex B.

Data: Catch/Effort

14. For the purpose of implementing this conservation measure in the 2001/02 season, the following shall apply:

(i) The Five-day Catch and Effort Reporting System set out in Conservation Measure 51/XIX; and

(ii) The Monthly Fine-scale Catch and Effort Reporting System set out in Conservation Measures 122/XIX. Fine-scale data shall be submitted on a haul-by-haul basis.

15. For the purpose of Conservation Measures 51/XIX and 122/XIX, the target species is Dissostichus spp. and by-catch species are defined as any species other than Dissostichus spp.

Data: Biological

16. Fine-scale biological data, as required under Conservation Measure 121/XIX, shall be collected and recorded. Such data shall be reported in accordance with the Scheme of International Scientific Observation.

Discharge

17. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells); or

(v) Sewage within 12 n miles of land or ice shelves, or sewage while the ship is travelling at a speed of less than 4 knots.

Additional Elements

18. No live poultry or other living birds shall be brought into Statistical Subarea 88.1 and any dressed poultry not consumed shall be removed from Statistical Subarea 88.1.

19. Fishing for Dissostichus spp. in Statistical Subarea 88.1 shall be prohibited within 10 n miles of the coast of the Balleny Islands.

Conservation Measure 236/XX

Limits on the Exploratory Fishery for Dissostichus spp. in Statistical Subarea 88.2 in the 2001/02 Season

The Commission hereby adopts the following conservation measure in accordance with Conservation Measure 65/XII:

Access

1. Fishing for Dissostichus spp. in Statistical Subarea 88.2 shall be limited to the exploratory longline fishery by Japan, New Zealand, Russia and South Africa. The fishery shall be conducted by a maximum in the season of one (1) Japanese, three (3) New Zealand, one (1) Russian and two (2) South African-flagged vessels ¹ using longlines only.

¹ As notified to the Secretariat in accordance with Conservation Measure 65/XII paragraph 2(iv).

Catch Limit

2. The total catch of Dissostichus spp. in Statistical Subarea 88.2 south of 65°S in the 2001/02 season shall not exceed a precautionary catch limit of 250 tonnes.

Season

3. For the purpose of the exploratory longline fishery for Dissostichus spp. in Statistical Subarea 88.2, the 2001/02 season is defined as the period from December 1, 2001 to August 31, 2002.

4. The exploratory longline fishery for Dissostichus spp. in Statistical Subarea 88.2 shall be carried out in accordance with the provisions of Conservation Measure 227/XX, except paragraph 6.

By-Catch

5. The by-catch in this fishery shall be regulated as set out in Conservation Measure 228/XX.

Mitigation

6. The exploratory longline fishery for Dissostichus spp. in Statistical Subarea 88.2 shall be carried out in accordance with the provisions of Conservation Measure 29/XIX, except paragraph 3 (night setting) shall not apply. Prior to licensing, each vessel shall demonstrate its capacity to comply with experimental line-weighting trials as approved by the Scientific Committee and described in Conservation Measure 216/XX, and such data shall be reported to the Secretariat immediately.

7. In Statistical Subarea 88.2, longlines may be set during daylight hours only if the vessels are demonstrating a consistent minimum line sink rate of 0.3 m/s in accordance with Conservation Measure 216/XX. Any vessel catching a total of three (3) seabirds shall immediately revert to night setting in accordance with Conservation Measure 29/XIX.

8. There shall be no offal discharge in this fishery.

Observers

9. Each vessel participating in the fishery shall have at least two scientific observers, one of whom shall be an observer appointed in accordance with the CCAMLR Scheme of International Scientific Observation, on board throughout all fishing activities within the fishing period.

VMS

10. Each vessel participating in this exploratory longline fishery shall be required to operate a VMS at all times, in accordance with Conservation Measure 148/XX.

CDS

11. Each vessel participating in this exploratory longline fishery shall be required to participate in the Catch Documentation Scheme for Dissostichus spp., in accordance with Conservation Measure 170/XX.

Research

12. Each vessel participating in this exploratory fishery shall conduct fishery-based research in accordance with the research plan described in Conservation Measure 227/XX, Annex B.

Data: Catch/Effort

13. For the purpose of implementing this conservation measure in the 2001/02 season, the following shall apply:

(i) The Five-day Catch and Effort Reporting System set out in Conservation Measure 51/XIX; and

(ii) The Monthly Fine-scale Catch and Effort Reporting System set out in Conservation Measures 122/XIX. Fine-scale data shall be submitted on a haul-by-haul basis.

14. For the purpose of Conservation Measures 51/XIX and 122/XIX, the target species is Dissostichus spp. and by-catch species are defined as any species other than Dissostichus spp.

Data: Biological

15. Fine-scale biological data, as required under Conservation Measures 121/XIX, shall be collected and recorded. Such data shall be reported in accordance with the Scheme of International Scientific Observation.

Discharge

16. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells); or

(v) Sewage within 12 n miles of land or ice shelves, or sewage while the ship is travelling at a speed of less than 4 knots.

Additional Elements

17. No live poultry or other living birds shall be brought into Statistical Subarea 88.2 and any dressed poultry not consumed shall be removed from Statistical Subarea 88.2.

Conservation Measure 237/XX

Limits on the Exploratory Fishery for Chaenodraco wilsoni, Lepidonotothen kempi, Trematomus eulepidotus and Pleuragramma antarcticum in Statistical Division 58.4.2 in the 2001/02 Season

The Commission hereby adopts the following conservation measure in accordance with Conservation Measure 65/XII:

Access

1. Fishing for Chaenodraco wilsoni, Lepidonotothen kempi, Trematomus eulepidotus and Pleuragramma antarcticum in Statistical Division 58.4.2 shall be limited to the exploratory trawl fishery by Australia. The fishery shall be conducted by Australian-flagged vessels using trawls only.

Catch Limit

2. The total catch of all species in the 2001/02 season shall not exceed a precautionary catch limit of 1 500 tonnes.

3. The catch of Chaenodraco wilsoni in the 2001/02 season shall be taken by the midwater trawl method only, except for the research program on shallow-water bottom trawling specified in paragraph 4 of Annex 237/A of this conservation measure, and shall not exceed 500 tonnes.

4. The catches of Lepidonotothen kempi, Trematomus eulepidotus and Pleuragramma antarcticum in the 2001/02 season shall be taken by the midwater trawl method only, except for the research program on shallow-water bottom trawling specified in paragraph 4 of Annex 237/A of this conservation measure, and shall not exceed 300 tonnes for any one species.

5. Any Dissostichus spp. or Macrourus spp. caught during the directed fishery for the above species shall be deducted from the catches of these species authorised in Conservation Measure 230/XX.

Season

6. For the purpose of the exploratory trawl fishery for Chaenodraco wilsoni, Lepidonotothen kempi, Trematomus eulepidotus and Pleuragramma antarcticum in Statistical Division 58.4.2, the 2001/02 season is defined as the period from December 1, 2001 to November 30, 2002, or until the catch limit is reached, whichever is sooner.

By-Catch

7. The by-catch in this fishery shall be regulated as set out in Conservation Measure 228/XX.

Mitigation

8. The operation of this fishery shall be carried out in accordance with Conservation Measure 173/XVIII so as to minimise the incidental mortality of seabirds in the course of fishing.

Observers

9. Each vessel participating in this fishery shall have at least one scientific observer appointed in accordance with the CCAMLR Scheme of International Scientific Observation, and where possible one additional scientific observer, on board throughout all fishing activities within the fishing period.

Data: Catch/Effort

10. For the purpose of implementing this conservation measure in the 2001/02 season, the following shall apply:

(i) The Five-day Catch and Effort Reporting System set out in Conservation Measure 51/XIX; and

(ii) The Monthly Fine-scale Catch and Effort Reporting System set out in Conservation Measures 122/XIX. Fine-scale data shall be submitted on a haul-by-haul basis.

11. For the purpose of Conservation Measures 51/XIX and 122/XIX, the target species are Chaenodraco wilsoni, Lepidonotothen kempi,Trematomus eulepidotus and Pleuragramma antarcticum and by-catch species are defined as any species other than these species.

Data: Biological

12. Fine-scale biological data, as required under Conservation Measure 121/XIX shall be collected and recorded. Such data shall be reported in accordance with the System of International Scientific Observation.

Research

13. Each vessel participating in this exploratory fishery shall conduct fishery-based research in accordance with the Research and Data Collection Plans described in Annex 237/A. The results shall be reported to CCAMLR not later than three months after the closure of the fishery.

Annex 237/A

Research and Data Collection Plans

1. There shall be three small-scale research units (SSRUs), bounded by the longitudes 40°E to 50°E, 50°E to 57°E, and 57°E to 70°E.

2. Any vessel undertaking prospecting or commercial fishing in any SSRU must undertake the following research activities once 10 tonnes of any one species have been caught, irrespective of the number of hauls required:

(i) A minimum of 20 hauls must be made within the SSRU and must collectively satisfy the criteria specified in subparagraphs (ii) to (iv);

(ii) Each haul must be separated by not less than 5 n miles from any other haul, distance to be measured from the geographical mid-point of each haul;

(iii) Each haul shall comprise at least 30 minutes effective fishing time as defined in the Draft Manual for Bottom Trawl Surveys in the Convention Area (SC-CAMLR-XI, Annex 5, Appendix H, Attachment E, paragraph 4); and

(iv) All data specified in the paragraph 5 of this annex shall be collected for every research haul; in particular, all fish in a research haul up to 100 fish are to be measured and biological characteristics obtained from 30 fish, where more than 100 fish are caught, a method for randomly subsampling the fish should be applied.

3. The requirement to undertake the above research activities applies irrespective of the period over which the trigger levels of 10 tonnes of catch in any SSRU are achieved during the 2001/02 fishing season. The research activities must commence immediately the trigger levels have been reached and must be completed before the vessel leaves the SSRU.

4. In the SSRU between 40°E and 50°E and in locations where the bottom depth is 280 m or less:

(i) A maximum total of 10 commercial bottom trawls may be conducted in no more than seven locations, but with no more than two bottom trawls in any one location;

(ii) Each location must be at least 5 n miles distant from any other location;

(iii) At each location trawled, three separate samples will be taken with a beam trawl in the vicinity of the commercial trawl track to assess the benthos present and compare with the benthos brought up in the commercial trawl; and

(iv) Catches from this program will not count towards the value that triggers the 20 research shots in an SSRU as defined in paragraph 2 above.

5. The following data and material will be collected from research and commercial hauls, as required by the CCAMLR Scientific Observers Manual:

(i) Position, date and depth at the start and end of every haul;

(ii) Haul-by haul catch and catch per effort by species;

(iii) Haul-by haul length frequency of common species;

(iv) Sex and gonad state of common species;

(v) Diet and stomach fullness;

(vi) Scales and/or otoliths for age determination;

(vii) By-catch of fish and other organisms; and

(viii) Observations on the occurrence of seabirds and mammals in relation to fishing operations, and details of any incidental mortality of these animals.

Conservation Measure 238/XX

Limits on the Exploratory Fishery for Martialia hyadesi in Statistical Subarea 48.3 in the 2001/02 Season

The Commission hereby adopts the following conservation measure in accordance with Conservation Measures 7/V and 65/XII:

Access

1. Fishing for Martialia hyadesi in Statistical Subarea 48.3 shall be limited to the exploratory jig fishery by notifying countries. The fishery shall be conducted by vessels using jigs only. ]

Catch Limit

2. The total catch of Martialia hyadesi in Statistical Subarea 48.3 in the 2001/02 season shall not exceed a precautionary catch limit of 2 500 tonnes.

Season

3. For the purpose of the exploratory jig fishery for Martialia hyadesi in Statistical Subarea 48.3, the 2001/02 season is defined as the period from December 1, 2001 to November 30, 2002, or until the catch limit is reached, whichever is sooner.

Observers

4. Each vessel participating in this fishery shall have at least one scientific observer appointed in accordance with the CCAMLR Scheme of International Scientific Observation, and where possible one additional scientific observer, on board throughout all fishing activities within the fishing period.

Data: Catch/Effort

5. For the purpose of implementing this conservation measure in the 2001/02 season, the following shall apply:

(i) The Ten-day Catch and Effort Reporting System set out in Conservation Measure 61/XII; and

(ii) The Monthly Fine-scale Catch and Effort Reporting System set out in Conservation Measure 122/XIX. Fine-scale data shall be submitted on a haul-by-haul basis.

6. For the purpose of Conservation Measures 61/XII and 122/XIX, the target species is Martialia hyadesi and by-catch species are defined as any species other than Martialia hyadesi.

Data: Biological

7. Fine-scale biological data, as required under Conservation Measure 121/XIX, shall be collected and recorded. Such data shall be reported in accordance with the Scheme of International Scientific Observation.

Research

8. Each vessel participating in this exploratory fishery shall collect data in accordance with the Data Collection Plan described in Annex 238/A. Data collected pursuant to the plan for the period up to August 31, 2002 shall be reported to CCAMLR by September 30, 2002 so that the data will be available to the meeting of the Working Group on Fish Stock Assessment in 2002.

Annex 238/A

Data Collection Plan for Exploratory Squid (Martialia hyadesi) Fisheries in Statistical Subarea 48.3

1. All vessels will comply with conditions set by CCAMLR. These include data required to complete the data form (Form TAC) for the Ten-day Catch and Effort Reporting System, as specified by Conservation Measure 61/XII; and data required to complete the CCAMLR standard fine-scale catch and effort data form for a squid jig fishery (Form C3). This includes numbers of seabirds and marine mammals of each species caught and released or killed.

2. All data required by the CCAMLR Scientific Observers Manual for squid fisheries will be collected. These include:

(i) Vessel and observer program details (Form S1);

(ii) Catch information (Form S2); and

(v) Biological data (Form S3).

Resolution 17/XX

Use of VMS and Other Measures for the Verification of CDS Catch Data for Areas Outside the Convention Area, in Particular, in FAO Statistical Area 51

The Commission,

Recognising the need to continue to take action, using a precautionary approach, based on the best scientific information available, in order to ensure the long term sustainability of Dissostichus spp. stocks in the Convention Area,

Concerned that the Catch Documentation Scheme for Dissostichus spp. (CDS) could be used to disguise illegal, unregulated and unreported (IUU) catches of Dissostichus spp. in order to gain legal access to markets,

Concerned that any misreporting and misuse of the CDS seriously undermines the effectiveness of CCAMLR conservation measures,

1. Urges States participating in the CDS to ensure that Dissostichus Catch Documents (DCDs) relating to landings or imports of Dissostichus spp., when necessary, are checked by contact with Flag States to verify that the information in the DCD is consistent with the data reports derived from an automated satellite-linked Vessel Monitoring System (VMS)¹.

¹ In this regard, verification of the information in the relevant DCD shall not be requested for the trawlers as described in Conservation Measure 170/XX, paragraph 14.

2. Urges States participating in the CDS, if necessary to that end, to consider reviewing their domestic laws and regulations, with a view to prohibiting, in a manner consistent with international law, landings/transhipments/imports of Dissostichus spp. declared in a DCD as having been caught in FAO Statistical Area 51 if the Flag State fails to demonstrate that it verified the DCD using automated satellite-linked VMS derived data reports.

3. Requests the Scientific Committee to review the data concerning the areas where Dissostichus spp. occur outside the Convention Area and the potential biomass of Dissostichus spp. in such areas, in order to assist the Commission in the conservation and management of Dissostichus stocks and in defining the areas and potential biomasses of Dissostichus spp. which could be landed/imported/exported under the CDS.

See the CCAMLR website, www.ccamlr.org under Publications for the Schedule of Conservation Measures in Force (2000/2001), or contact CCAMLR at: CCAMLR Secretariat P.O. Box 213, North Hobart, Tasmania 7002, Tel: [61] 3 6231 0366, Fax: [61] 3 6234 9965.

Dated: January 8, 2002.
Margaret F. Hayes
Director, Office of Oceans Affairs, Bureau of Oceans, International Environmental & Scientific Affairs, U.S. Department of State.

[FR Doc. 02-1127 Filed 1-16-02; 8:45 am]

BILLING CODE 4710-09-P